DEPARTMENT OF THE INTERIOR

Bureau of Reclamation

Folsom Dam Safety of Dams Mormon Island Auxiliary Dam (MIAD) Modification, California

AGENCY: Bureau of Reclamation, Interior.

ACTION: Notice of intent to prepare an Environmental Impact Statement/Environmental Impact Report (EIS/EIR) and notice of public scoping meetings.

SUMMARY: Pursuant to the National Environmental Policy Act (NEPA) and the California Environmental Quality Act (CEQA), the Bureau of Reclamation, the lead Federal agency, and the Sacramento Area Flood Control Agency (SAFCA), acting as the lead State agency, will prepare a joint EIS/EIR for the proposed Folsom Dam Safety of Dams MIAD Modification (Proposed Action). The purpose of the Proposed Action is to reduce the seismic and static risk of failure of MIAD. In this way, Reclamation will achieve the existing standards for dam safety and reduce the risk of injury to those people living and working downstream of the Folsom Dam complex.

DATES: A series of scoping meetings will be held to solicit public input on the scope of the environmental document, alternatives, concerns, and issues to be addressed in the EIS/EIR. The scoping meeting dates are:

• Tuesday, December 2, 2008. 1 p.m. to 4 p.m., Folsom, CA.

• Tuesday, December 2, 2008. 6 p.m. to 9 p.m., Folsom, CA.

• Thursday, December 4, 2008. 6 p.m. to 9 p.m., El Dorado Hills, CA.

Written comments on the scope of the EIS/EIR will be accepted until January 3, 2009.

ADDRESSES: The public scoping meetings will be held at:

• Folsom: Folsom Community Center, 52 Natoma Street, Folsom, CA 95630.

• El Dorado Hills: El Dorado Hills Community Services District, 1021 Harvard Way, El Dorado Hills, CA 95762.

Written comments on the scope of the EIS/EIR document should be sent to Ms. Elizabeth Vasquez, Central California Area Office, Bureau of Reclamation, 7794 Folsom Dam Road, Folsom, CA 95630-1799; or e-mailed to FolsomDamMods@mp.usbr.gov.

FOR FURTHER INFORMATION CONTACT: Ms. Elizabeth Vasquez, Central California Area Office, Bureau of Reclamation, at the CCAO general telephone number 916-988-1707, e-mail at: FolsomDamMods@mp.usbr.gov.

SUPPLEMENTARY INFORMATION:

Background

The March 2007 Folsom Dam Safety and Flood Damage Reduction EIS/EIR (Folsom DS/FDR EIS/EIR) included NEPA/CEQA analysis of modifying MIAD. The analysis in the Folsom DS/FDR EIS/EIR considered several methods to modify MIAD to achieve Reclamation's risk standards for dam safety. The May 2007 Record of Decision Folsom Dam Safety of Dams and Security Upgrades Project documented that the preferred alterative for MIAD modification was to place an overlay and seepage control filters on the downstream (terrestrial) side of MIAD and reinforce the MIAD foundation using a construction technique known as jet grouting. At that time, some of the required permits and consultations (Endangered Species Act, Fish and Wildlife Coordination Act, and Sec 106 of the National Historic Preservation Act) were also obtained. Subsequent investigations into the feasibility of the MIAD Modification Project as conceived in the Folsom DS/FDR EIS/EIR have indicated that the design of the MIAD Modification Project will need to be changed to achieve Reclamation's existing risk standards for dam safety. Specifically, the utilization of jet grouting to stabilize the foundation of MIAD is unlikely to meet those risk standards.

The purpose of the Proposed Action is to reduce the seismic and static risk of failure of MIAD. In this way, Reclamation will achieve the existing standards for dam safety and reduce the risk of injury to those people living and working downstream of the Folsom Dam complex. This proposed project is a feature of the Folsom Dam Safety of Dams Project, and the analysis will tier from the March 2007 NEPA/CEQA environmental analysis, the Folsom DS/FDR EIS/EIR.

At this time, there are no known or possible Indian trust assets or environmental justice issues associated with the Proposed Action.

Special Assistance for Public Scoping Meetings

If special assistance is required to participate in the public hearings, please contact Ms. Elizabeth Vasquez at 916-989-7192, TDD 916-989-7285, or e-mail evasquez@mp.usbr.gov. Please notify Ms. Vasquez as far in advance as possible to enable Reclamation to secure the needed services. If a request cannot be honored, the requestor will be notified. A telephone device for the hearing impaired (TDD) is available at 916-989-7285.

Public Disclosure

Before including your name, address, phone number, e-mail address, or other personal identifying information in your comment, you should be aware that your entire comment—including your personal identifying information—may be made publicly available at any time. While you can ask us in your comment to withhold your personal identifying information from public review, we cannot guarantee that we will be able to do so.

Dated: October 28, 2008.
Michael Chotkowski,
Acting Regional Environmental Officer, Mid-Pacific Region.

[FR Doc. E8-26634 Filed 11-6-08; 8:45 am]

BILLING CODE 4310-MN-P